DEPARTMENT OF TRANSPORTATION

National Highway Traffic Safety Administration

[Docket No. NHTSA-00-7638; Notice 2]

Recommendations for Establishing Global Technical Regulations Under the United Nations/Economic Commission for Europe 1998 Global Agreement; Motor Vehicle Safety

AGENCY: National Highway Traffic Safety Administration (NHTSA), Department of Transportation.

ACTION: NHTSA's recommendations to WP.29 for regulations to be considered under the 1998 Global Agreement.

SUMMARY: In July 2000, NHTSA published a notice seeking comments on its preliminary recommendations for the first motor vehicle safety technical regulations to be considered for establishment under the United Nations Economic Commission for Europe 1998 Global Agreement. NHTSA has reviewed and considered all public comments submitted in response to the notice and has prepared final recommendations to present to the World Forum for the Harmonization of Vehicle Regulations (WP.29) at the March 2001 meeting in Geneva. NHTSA will use the recommendations in deliberating with other Contracting Parties concerning the adoption of a program of work under the 1998 Global Agreement.

FOR FURTHER INFORMATION CONTACT: For technical and policy issues: Ms. Julie Abraham, Director, Office of International Policy and Harmonization, National Highway Traffic Safety Administration, 400 Seventh Street, SW, Washington, DC 20590. Telephone: (202) 366-2114. Fax: (202) 366-2559.

For legal issues: Nancy Bell, Attorney Advisor, Office of the Chief Counsel, NCC-20, National Highway Traffic Safety Administration, 400 Seventh Street, SW, Washington, DC 20590. Telephone: (202) 366-2992. Fax: (202) 366-3820.

SUPPLEMENTARY INFORMATION: You may read the materials placed in Docket No. NHTSA-00-7638 (e.g., the comments submitted in response to the request for comments by other interested persons) by visiting the address: Docket Management, Room PL-401, 400 Seventh Street, SW., Washington, DC, 20590. The hours of the Docket Management System (DMS) are indicated above in the same location. Alternatively, you may read the materials electronically on the Internet. To do so, take the following steps:

(1) Go to the Web page of the Department of Transportation DMS (http://dms.dot.gov/).

(2) On that page, click on “search” near the top of the page or scroll down to the words “Search the DMS Web” and click on them.

(3) On the next page (http://dms.dot.gov/search/), scroll down to “Docket Number” and type in the four-digit docket number (7638) shown in the title at the beginning of this notice. After typing the docket number, click on “search.”

(4) On the next page (“Docket Summary Information”), which contains docket summary information for the materials in the docket you selected, scroll down to “search results” and click on the desired materials. You may download the materials.

Table of Contents

I. Background

II. NHTSA's Final Recommendations to WP.29

A. Consideration of Comments

B. Recommended Priorities

III. Future Actions

I. Background

The U.S. became a signatory to the United Nations/Economic Commission for Europe (UN/ECE) Agreement Concerning the Establishment of Global and Technical Regulations for Wheeled Vehicles, Equipment and Parts Which Can Be Fitted And/or Be Used On Wheeled Vehicles (the “1998 Global Agreement”) in June 1998. The 1998 Global Agreement, which entered into force on August 25, 2000, provides for the establishment of global technical regulations regarding the safety, emissions, energy conservation and theft prevention of wheeled vehicles, equipment and parts.¹ The Agreement contains procedures for establishing global technical regulations by either harmonizing existing regulations or developing a new regulation.

¹ The covered equipment and parts inside, but are not limited to, exhaust systems, tires, engines, acoustic shields, anti-theft alarms, warning devices and child restraint systems.

On July 18, 2000, in anticipation of the entry into force of the 1998 Global Agreement, NHTSA published a notice to obtain public comments on a list of preliminary recommendations of standards or aspects of standards for consideration by Contracting Parties in prioritizing the development and establishment of global technical regulations under the 1998 Global Agreement. (65 Fed. Reg. 44565) In that notice, NHTSA placed its recommendations into two categories based on available information and analysis concerning the relative level of stringency and benefits of U.S. and foreign standards. The first category, the “Priority Recommendations,” included some foreign standards or aspects of those standards that may represent best safety practices among existing national and regional regulations and that may lead to the improvement of vehicle safety in the U.S. NHTSA stated that, in allocating agency resources among the priority recommendation, it will give priority to the recommendations in this category. The second category, the “Other Recommendations,” included U.S. standards or aspects of standards that may represent best current safety practices and that may lead to improvement of vehicle safety worldwide. NHTSA believes that the standards in this category should obtain international review and feedback and be considered in the establishment of global technical regulations under the 1998 Global Agreement.

In addition to the above mentioned categories, the notice also noted the suggestions that had been received by the United Nations' Economic Commission for Europe World Forum for Development of Global Technical Regulations (WP.29) from the governments of Japan and the Russian Federation and various industry and consumer groups. These suggestions are posted in the NHTSA docket (NHTSA-00-7638).

In response to NHTSA's request for suggestions for changes to its preliminary recommendations, the agency received comments from Advocates for Highway and Auto Safety, the Alliance of Automobile Manufacturers, Flat Glass Manufacturers Association of Japan, Honda, the International Organization of Motor Vehicle Manufacturers (OICA), the Rubber Manufacturers Association, and Toyota.

II. NHTSA's Final Recommendations to WP.29

A. Consideration of Comments

NHTSA has reviewed the comments submitted in response to the July 2000 notice. In addition, NHTSA has reviewed the suggestions that had been submitted by the governments of Japan and the Russian Federation and various industry and consumer groups to WP.29. These suggestions have been placed in the docket for the request for comments (NHTSA-00-7638).

The majority of those who commented on NHTSA's approach to priority setting indicated that they support NHTSA's approach in principle, but believe that modifications are needed. The reasons for these modifications included: (1) The need to continue work on standards for which resources already have been expended and considerable progress has been made; (2) the need to select regulations that are easier to harmonize from both the technical and the political points of view; (3) the need to include regulations that have been harmonized between Europe and Japan (under the 1958 Agreement); (4) cost-savings to industry and consumers; (5) the list of specific standards under each category is not comprehensive or includes subjects that ought to be removed because of the lack of a clear association with the category; and (6) harmonizing specific aspects of standards is not sufficient.

In response to the comments, NHTSA wishes to clarify its approach to priority setting. NHTSA's statutory mission, and thus the focus of its rulemaking activities, is improving vehicle safety. Accordingly, NHTSA must continue to focus its resources on those standards that improve motor vehicle safety in the U.S.

However, the agency also devotes considerable effort to refining and updating its standards to permit technological innovation, avoid imposing unnecessary regulatory burdens, and improve regulatory effectiveness. Accordingly, NHTSA recognizes the merit in including other standards in the work of WP.29. NHTSA agrees that consideration should be given to including some standards based on the fact that harmonization work is already underway and progress has been made on them. NHTSA itself has already spent considerable resources on some of these standards. With the expenditure of limited additional resources, NHTSA can work with other contracting parties toward their establishment as global technical regulations. NHTSA will also continue to collaborate with other contracting parties to the 1998 Global Agreement on standards of importance to those contracting parties. In addition, NHTSA agrees with including some standards on the basis that it may be easy to harmonize them. NHTSA believes that working on those standards will help the U.S. and other contracting parties gain experience with the process of the 1998 Global Agreement.

B. Recommended Priorities

NHTSA's recommended priorities are largely unchanged. However, NHTSA has decided to reorganize its recommendations according to the subject matter responsibilities of the WP.29 Working Parties of Experts to examine their potential impact on the workload for each of the Working Parties. Upon reviewing its preliminary recommendations and the specific standards that were recommended by other contracting parties, interest groups or commenters for each of the Working Parties of Experts, NHTSA found that the majority of the standards would be assigned to the Working Party on Passive Safety (GRSP). Therefore, in the interest of promoting a manageable workload, the agency has decided to defer some of its recommendations. In addition, based on the considerations discussed above, NHTSA added Motorcycle Brakes to its list of recommendations for the Working Party on Brakes and Running Gear (GRRF).

NHTSA's final recommendations to WP.29 are categorized below according to the Working Parties of Experts. These recommendations focus on standards that NHTSA believes could be productively worked on in the immediate future. NHTSA will continue to work on several long term projects that are currently underway in NHTSA and are also being coordinated in the International Harmonized Research Activities (IHRA). NHTSA will also reevaluate the list set out below on a regular basis to assess whether a revision is merited.

In announcing its final recommendations, NHTSA wants to reaffirm its commitment to achieving the goals of the National Traffic and Motor Vehicle Safety Act. Further, the agency cautions that its recommendations to WP.29 under the 1998 Global Agreement should not be confused with its more inclusive list of rulemaking activities under the Vehicle Safety Act.

NHTSA's final recommendations to be submitted to WP.29 at the March 2001 meeting.

1. Working Party on Passive Safety

Head restraints

Lower anchorages and tethers for child safety seats

Door retention components

Dummies (10 year old frontal dummy and 50th percentile side impact dummy)

Frontal impact (full/offset) protection

2. Working Party on Brakes and Running Gears

Tires

Motorcycle brakes

3. Working Party on Lighting and Light-Signaling

Signal lamp visibility

4. Working Party on General Safety

Windshield wipers and washers

Controls and displays

Vehicle classification

III. Future Actions

At the March 2001 meeting in Geneva, NHTSA will use its final recommendations in deliberating with the other Contracting Parties to the 1998 Global Agreement about a program of work for the Working Parties of Experts. NHTSA will report to the public on the final outcome of the deliberations after that meeting.

Issued on January 12, 2001.
Rosalyn G. Millman,
Deputy Administrator.

[FR Doc. 01-1527 Filed 1-17-01; 8:45 am]

BILLING CODE 4910-59-P